DEPARTMENT OF ENERGY

Federal Energy Regulatory Commission

[Project No. 13274-000]

Monadnock Paper Mills, Inc.; Notice of Preliminary Permit Application Accepted for Filing and Soliciting Comment, Motions To Intervene, and Competing Applications

November 26, 2008.

Monadnock Paper Mills, Inc. (MPM), filed an application on August 7, 2008, pursuant to section 4(f) of the Federal Power Act, proposing to study the feasibility of adding additional capacity to the Monadnock Hydroelectric Project at the project's Powder Mill Dam Development, which would be located near the towns of Bennington and Antrim on the Contoocook River in Hillsborough County, New Hampshire.

The proposed Powder Mill Dam Hydroelectric Project would utilize MPM's licensed Powder Mill Dam of the Monadnock Hydroelectric Project, FERC No. 6597 for which MPM is the licensee and would consist of: (1) A new generating unit with a total installed capacity of 200 kW, (2) a new transmission line connecting to existing power lines, and (3) appurtenant facilities. The project would have an annual generation of 0.7 gigawatts-hours, which would be sold to a local utility.

Applicant Contact: Mr. Paul Ciccone, Vice President Research and Development, Technical Services, Monadnock Paper Mills, Inc., 117 Antrim Road, Bennington, NH 03442; phone: (603) 588-3311. FERC Contact: Tom Papsidero, (202) 502-6002.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13274) in the docket number field to access the document. For assistance, call toll-free 1-866-208-3372.

Kimberly D. Bose,
Secretary.

[FR Doc. E8-28700 Filed 12-3-08; 8:45 am]

BILLING CODE 6717-01-P